DEPARTMENT OF THE INTERIOR

Fish and Wildlife Service

Revised Comprehensive Conservation Plan and Environmental Assessment for Innoko National Wildlife Refuge, Alaska

AGENCY: U.S. Fish and Wildlife Service, Interior.

ACTION: Notice of intent.

SUMMARY: We, the U.S. Fish and Wildlife Service (Service, we), will be developing a revised Comprehensive Conservation Plan (CCP) and Environmental Assessment (EA) for Innoko National Wildlife Refuge (Refuge). We will use special mailings, newspaper articles, and other media announcements to inform the public of opportunities to provide input throughout the planning process. We will hold public meetings in communities near the Refuge (Grayling, Anvik, Shageluk, Holy Cross, Kaltag, McGrath and Takotna).

DATES: Please provide written comments on the scope of the CCP revision on or before 30 days from the date of publication of this Notice.

ADDRESSES: Address comments, questions, and requests for further information to: Rob Campellone, Planning Team Leader, Division of Conservation Planning and Policy, 1011 East Tudor Rd., MS-231, Anchorage, Alaska 99503. Comments may be faxed to (907) 786-3965, or e-mail to Innoko_Plan@fws.gov. Additional information about the refuge is available on the Internet at: http://alaska.fws.gov/nwr/planning/innpol.htm.

FOR FURTHER INFORMATION CONTACT: Rob Campellone, Planning Team Leader, at (907) 786-3982.

SUPPLEMENTARY INFORMATION: Established by the Alaska National Interest Lands Conservation Act (94 Stat. 2371) in 1980, Innoko Refuge covers some 3,850,000 acres and is one of the most important waterfowl areas in west central interior Alaska. Approximately half of the refuge consists of wetlands set with innumerable lakes and ponds of varying size. The remainder is marked by hills, most of which are less than one thousand feet in elevation. Almost one-third of the refuge is designated Wilderness. The route of the historic Iditarod Trail crosses the Refuge.

Refuge purposes include (1) Conservation of fish and wildlife populations and habitats in their natural diversity including, but not limited to, waterfowl peregrine falcons, other migratory birds, black bear, moose, furbearers, and other mammals and salmon; (2) fulfilling the international treaty obligations of the United States with respect to fish and wildlife and their habitats; (3) providing, in a manner consistent with purposes (1) and (2) above, the opportunity for continued subsistence by local residents; and ensuring, to the maximum extent practicable and in a manner consistent with purpose (1) above, water quality and necessary water quantity within the refuge.

We furnish this notice in accordance with the Alaska National Interest Lands Conservation Act, the National Wildlife Refuge System Administration Act as amended by the National Wildlife Refuge System Improvement Act of 1997 (16 U.S.C. 668dd-688ee), and Service policies.

These laws and policies require all lands within the National Wildlife Refuge System to be managed in accordance with an approved CCP. A CCP is a 15-year plan for managing a refuge. Refuge goals and objectives are identified in a CCP. During the CCP process, we will consider many elements, including conservation of the Refuge's fish and wildlife populations and habitats in their natural diversity; facilitation of subsistence use by local residents, access for traditional activities; and conservation of resource values including cultural resources, wilderness and rivers. The final revised CCP will detail the programs, activities, and measures necessary to best administer the Refuge to protect these values and fulfill refuge purposes over the next 15-years. Until the revised CCP is completed, management will continue to be guided by the original CCP, Federal legislation regarding management of National Wildlife Refuges, and other legal, regulatory, and policy guidance.

Public Meetings: We plan to hold public meetings in communities near the Refuge: Grayling, Anvik, Shageluk, Holy Cross, Kaltag, McGrath and Takotna. Meetings will be held between December 1 and the end of February as weather conditions permit. Each meeting will be announced, in advance, locally.

Dated: February 16, 2007.
Thomas O. Melius,
Regional Director, U.S. Fish & Wildlife Service, Anchorage, Alaska.

[FR Doc. E7-3108 Filed 2-22-07; 8:45 am]

BILLING CODE 4310-55-P